DEPARTMENT OF ENERGY

Federal Energy Regulatory Commission

[Project No. 15248-000]

RAMM Power Group, LLC; Notice of Preliminary Permit Application Accepted for Filing and Soliciting Comments, Motions To Intervene, and Competing Applications

On November 18, 2021, RAMM Power Group LLC, filed an application for a preliminary permit, pursuant to section 4(f) of the Federal Power Act (FPA), proposing to study the feasibility of the Sacaton Energy Storage Project (Sacaton Project or project) to be located in Pinal County, Arizona. The sole purpose of a preliminary permit, if issued, is to grant the permit holder priority to file a license application during the permit term. A preliminary permit does not authorize the permit holder to perform any land-disturbing activities or otherwise enter upon lands or waters owned by others without the owners' express permission.

The proposed 150-megawatt (MW) closed-loop pumped storage project would consist of the following: (1) an existing 1200-foot-deep open pit mine for the lower reservoir, which will have a storage capacity of 1,500 acre-feet at a maximum water surface elevation of 455 feet above mean sea level (msl); (2) an adjacent waste-rock dump for the upper reservoir, which will have a storage capacity of 1,300 acre-feet at a maximum water surface elevation of 1,456 feet msl; (3) a new 28-foot-high, 6,000-foot long upper reservoir dam; (4) a single 200-foot-long, 12-foot-diameter steel penstock connecting the upper and lower reservoirs; (5) a new underground powerhouse with two 75-MW pump/turbine generating units; (6) a single 14-foot-dimeter low-pressure draft tube that would extend approximately 2,200 feet from the powerhouse to the lower reservoir; (7) a new 200-megavolt-ampere substation located adjacent to the upper reservoir; and (8) a new 2,500-foot-long, 137-kilovolt transmission line connecting the new substation to the grid interconnection at a transmission line owned by Arizona Public Service. Initial fill water for the project would come from the mine and purchased from existing water rights holders. The proposed project would have an estimated average annual generation of 400,000 megawatt-hours.

Applicant Contact: Dr. Michael A. Werner, RAMM Power Group, 14575 S Avenida Cucana, Sahuarita, Arizona 85629; phone: (509) 280-7486.

FERC Contact: Khatoon Melick, (202) 502-8433, khatoon.melick@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15248-000.

More information about this project, including a copy of the application, can be viewed or printed on the “eLibrary” link of Commission's website at http://www.ferc.gov/docs-filing/elibrary.asp. Enter the docket number (P-15248) in the docket number field to access the document. For assistance, contact FERC Online Support.

Dated: September 21, 2023.
Debbie-Anne A. Reese,
Deputy Secretary.

[FR Doc. 2023-21105 Filed 9-26-23; 8:45 am]

BILLING CODE 6717-01-P